DEPARTMENT OF TRANSPORTATION

Federal Aviation Administration

14 CFR Part 39

[Docket No. 2000-NE-14-AD]

RIN 2120-AA64

Airworthiness Directives; Honeywell International Inc. LTS101 Series Turboshaft Engines and LTP101 Series Turboprop Engines

AGENCY: Federal Aviation Administration, DOT.

ACTION: Notice of proposed rulemaking (NPRM).

SUMMARY: The Federal Aviation Administration (FAA) proposes to adopt a new airworthiness directive (AD) that is applicable to Honeywell International Inc. (formerly AlliedSignal Inc.) LTS101 series turboshaft engines; and LTP101 series turboprop engines. This proposal would require a one-time visual inspection for surface finish and a one-time fluorescent penetrant inspection for cracks of certain impellers installed on LTS101 series turboshaft and LTP101 series turboprop engines. This proposal is prompted by a report of a machining discrepancy that may have occurred during manufacture of the affected impellers. The actions specified by the proposed AD are intended to prevent impeller failure from cracks in the impeller back face area, which could result in an uncontained engine failure.

DATES: Comments must be received by December 28, 2001.

ADDRESSES: Submit comments in triplicate to the Federal Aviation Administration (FAA), New England Region, Office of the Regional Counsel, Attention: Rules Docket No. 2000-NE-14-AD, 12 New England Executive Park, Burlington, MA 01803-5299. Comments may be inspected, by appointment, at this location between 8:00 a.m. and 4:30 p.m., Monday through Friday, except Federal holidays. Comments may also be sent via the Internet using the following address: 9-ane-adcomment@faa.gov. Comments sent via the Internet must contain the docket number in the subject line. The service information referenced in the proposed rule may be obtained from Honeywell International Inc. (formerly AlliedSignal) Aerospace Services Attn.: Data Distribution, M/S 64-3/2101-201, PO Box 29003, Phoenix, AZ 85038-9003; telephone (602) 365-2493, fax (602) 365-5577. This information may be examined, by appointment, at the FAA, New England Region, Office of the Regional Counsel, 12 New England Executive Park, Burlington, MA.

FOR FURTHER INFORMATION CONTACT: Robert Baitoo, Aerospace Engineer, Los Angeles Aircraft Certification Office, FAA, Transport Airplane Directorate, 3960 Paramount Blvd., Lakewood, CA 90712-4137; telephone (562) 627-5245, fax (562) 627-5210.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this proposal must submit a self-addressed, stamped postcard on which the following statement is made: “Comments to Docket Number 2000-NE-14-AD.” The postcard will be date stamped and returned to the commenter.

Availability of NPRM's

Any person may obtain a copy of this NPRM by submitting a request to the FAA, New England Region, Office of the Regional Counsel, Attention: Rules Docket No. 2000-NE-14-AD, 12 New England Executive Park, Burlington, MA 01803-5299.

Discussion

The FAA has received a report of two impellers that failed while being tested by the manufacturer. It is believed that the failures are a result of a machining discrepancy that may have occurred during manufacture of the affected impellers. This condition, if not corrected, could result in the development of cracks in the impeller back face area and possibly an uncontained engine failure.

Evaluation of the Unsafe Condition

Since an unsafe condition has been identified that is likely to exist or develop on other LTS101 series turboshaft engines; and LTP101 series turboprop engines of the same type design, the proposed AD would require a one-time visual inspection for surface finish and a one-time fluorescent penetrant inspection for cracks of certain impellers as described in AlliedSignal Service Bulletin (SB) LT 101-72-30-0186, dated October 1, 1999, or Honeywell International SB LT 101-72-30-0186, Revision 1, dated April 25, 2000.

Differences Between the Proposed AD and the Manufacturers' Service Bulletins

To assure that the unsafe condition is addressed in a timely fashion, this amendment will require a one-time visual inspection for surface finish and a one-time fluorescent penetrant inspection for cracks of impellers part numbers (P/N's) 4-101-052-57/-62 within 900 gas generator (Ng) cycles after the effective date of this AD.

Economic Impact

The FAA estimates that 600 engines installed on aircraft of U.S. registry would be affected by this proposed AD and that it would take approximately 4 work hours per engine to accomplish the proposed inspection. The average labor rate is $60 per work hour. There are no required parts costs. Based on these figures, the total cost impact of the proposed AD on U.S. operators is estimated to be $144,000.

Regulatory Impact

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Honeywell International Inc.: Docket No. 2000-NE-14-AD.

Applicability: This airworthiness directive (AD) is applicable to LTS101 series turboshaft and LTP101 series turboprop engines with the following centrifugal compressor impeller part numbers (P/N's) installed: 4-101-052-57 and 4-101-052-62, except those with a P/­N or serial number (SN) listed in paragraphs 1.A.(1) through 1.A.(3) of AlliedSignal SB LT 101-72-30-0186, dated October 1, 1999, or Honeywell International Inc. SB LT 101-72-30-0186, Revision 1, dated April 25, 2000. These engines are installed on, but not limited to Aerospatiale AS350, Eurocopter MBB-BK117 and HH-65A, Bell 222, Page Thrush, Air Tractor AT-302, Piaggio P.166-DL3, Riley International R421, and Pacific Aero 08-600 aircraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless already done.

To prevent impeller failure from cracks in the impeller back face area, which could result in an uncontained engine failure, do the following:

(a) Within 900 gas generator (Ng) cycles after the effective date of this AD, conduct a one-time visual inspection for surface finish and fluorescent penetrant inspection of impellers P/N 4-101-052-57 and 4-101-052-62 for cracks in accordance with 3.A through 3.F. of the Accomplishment Instructions of AlliedSignal Service Bulletin (SB) LT 101-72-30-0186, dated October 1, 1999, or Honeywell International Inc. SB LT 101-72-30-0186, Revision 1, dated April 25, 2000.

(b) Replace all impellers that exceed the acceptable limits of the Accomplishment Instructions of AlliedSignal Service Bulletin (SB) LT 101-72-30-0186, dated October 1, 1999, or Honeywell International Inc. SB LT 101-72-30-0186, Revision 1, dated April 25, 2000 with a serviceable impeller.

(c) After the effective date of this AD, do not install impeller P/N's 4-101-052-57 or 4-101-052-62, except those with an impeller P/N or SN listed in paragraphs 1. A.(1) through 1. A.(3) of AlliedSignal SB LT 101-72-30-0186, dated October 1, 1999, or Honeywell International Inc. SB LT 101-72-30-0186, Revision 1, dated April 25, 2000.

Alternative Methods of Compliance

(d) An alternative method of compliance or adjustment of the compliance time that provides an acceptable level of safety may be used if approved by the Manager, Los Angles Aircraft Certification Office (LAACO). Operators must submit their request through an appropriate FAA Principal Maintenance Inspector, who may add comments and then send it to the Manager, LAACO.

Note 2: Information concerning the existence of approved alternative methods of compliance with this airworthiness directive, if any, may be obtained from the LAACO.

Special Flight Permits

(e) Special flight permits may be issued in accordance §§ 21.197 and 21.199 of the Federal Aviation Regulations (14 CFR 21.197 and 21.199) to operate the aircraft to a location where the requirements of this AD can be accomplished.

Issued in Burlington, Massachusetts, on October 18, 2001.
Jay J. Pardee,
Manager, Engine and Propeller Directorate, Aircraft Certification Service.

[FR Doc. 01-26968 Filed 10-26-01; 8:45 am]

BILLING CODE 4910-13-M